DEPARTMENT OF JUSTICE

Notice of Lodging of Consent Decree Under the Clean Air Act, Resource Conservation and Recovery Act, and the Emergency Planning and Community Right To Know Act

Consistent with 28 CFR 50.7, notice is hereby given that on June 8, 2006, a proposed consent decree (“decree”) in United States, et al. v. Oxy Vinyls, L.P., Civil Action No. 3:06-CV1005-D, was lodged with the United States District Court for the Northern District of Texas.

In this action, the United States seeks civil penalties and injunctive relief against Oxy Vinyls, L.P. (“Oxy Vinyls”) for violations under (1) Section 113(a)(3) of the Clean Air Act, 42 U.S.C. 7413(a)(3); (2) Section 3008(a)(1) of the Resource Conservation and Recovery Act (“RCRA”), 42 U.S.C. 6928(a)(1); and (3) Section 313 of the Emergency Planning and Community Right to Know Act, 42 U.S.C. 11023, relating to four of Oxy Vinyls' polyvinyl chloride manufacturing facilities (the “PVC Facilities”). the PVC Facilities are located in Pasadena, Texas; Deer Park, Texas; Louisville, Kentucky; and Pedricktown, New Jersey. The Louisville Metro Air Pollution Control District (“LMAPCD”) and the State of New Jersey are co-signatories to the decree.

The proposed decree provides that Oxy Vinyls will (1) Pay a civil penalty of $140,000 to be split between the United States and the LMAPCD, and a civil penalty of $200,000 to the State of New Jersey for separate state-only violations; (2) perform three different federal Supplemental Environmental Projects at an estimated cost of $1,224,000 that are expected to decrease emissions of vinyl chloride by approximately 40,000 pounds (lbs) per year relative to 2003 project mix at nameplate capacity; (3) fund a state environmental project; (4) perform a RCRA sampling plan at its Pasadena, Texas facility; and (5) perform certain limited injunctive relief.

The Department of Justice will receive for a period of thirty (30) days from the date of this publication comments relating to the decree. Comments should be addressed to the Assistant Attorney General, Environment and Natural Resources Division, P.O. Box 7611, Ben Franklin Station, U.S. Department of Justice, Washington, DC 20044-7611, and should refer to United States, et al. v. Oxy Vinyls, L.P., D.J. Ref. 90-5-2-1-08333.

The Decree may be examined at the Office of the United States Attorney, 1100 Commerce Street, Suite 300, Dallas, Texas 75242, and at the U.S. Environmental Protection Agency-Region 6, 1445 Ross Avenue, Suite 1200, Dallas, Texas 75202-2733. During the pubic comment period, the decree may also be examined on the following Department of Justice Web site, http://www.usdoj.gov/enrd/open.html. A copy of the decree may also be obtained by mail from the Consent Decree Library, P.O. Box 7611, Ben Franklin Station, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.25 (25 cents per page reproduction cost) payable to the U.S. Treasury.

W. Benjamin Fisherow,
Deputy Chief, Environmental Enforcement Section, Environment and Natural Resources Division.

[FR Doc. 06-5566 Filed 6-20-06; 8:45 am]

BILLING CODE 4410-15-M